NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before November 7, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Larry Baume, Acting Director, Life Cycle Management Division (NWML), National Archives and Records Administration, 8601 Adelphi Road, College Park, MD 20740-6001. Telephone: 301-837-1505. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Forest Service (N1-95-02-1, 4 items, 2 temporary items). Extra copies of fire reports and related documentation as well as electronic copies of documents created using electronic mail and word processing. Recordkeeping copies of these files are proposed for permanent retention.

2. Department of Defense, National Imagery and Mapping Agency (N1-537-02-2, 2 items, 2 temporary items). Individual procurement appointment files relating to participants in purchase card programs. Also included are electronic copies of records created using word processing and electronic mail.

3. Department of Justice, Federal Bureau of Investigation (N1-65-02-5, 1 item, 1 temporary item). Hard copy fingerprint cards generated in connection with background investigations of military enlistees.

4. Department of Justice, National Drug Intelligence Center (N1-523-02-1, 8 items, 6 temporary items). Staff meeting files, firearms training records, and training materials that do not pertain to law enforcement. Also included are electronic copies of records created using electronic mail and word processing. Proposed for permanent retention are recordkeeping copies of executive level meeting files and training materials for law enforcement training.

5. Department of Justice, National Drug Intelligence Center (N1-523-02-2, 6 items, 3 temporary items). Policy files that do not pertain to the agency's mission, including electronic copies of records created using electronic mail and word processing. Proposed for permanent retention are recordkeeping copies of mission-related policy files and records that pertain to agreements.

6. Department of the Navy, Agency-wide (N1-NU-02-03, 5 items, 4 temporary items). Records relating to international agreements accumulated by the International Programs Office. The records include Navy annexes to data exchange agreements, newsletters, and charts. Also included are electronic copies of records created using electronic mail and word processing. Recordkeeping copies of case files pertaining to agreements are proposed for permanent retention.

7. Department of the Navy, Agency-wide (N1-NU-02-04, 13 items, 13 temporary items). Records relating to security assistance policy accumulated by the International Programs Office. Included are budgetary documents, case files relating to such matters as foreign military sales and other assistance programs, and inter-service agreements for administrative services. Also included are electronic copies of records created using electronic mail and word processing.

8. Department of State, Bureau of Human Resources (N1-59-00-8, 23 items, 21 temporary items). Records accumulated by the Office of the Executive Director relating to administrative oversight and support. Included are such records as subject files, the personnel action handbook master, performance files, and several databases containing personnel data for employees, including Foreign Service Nationals. Also included are electronic copies of documents created using electronic mail and word processing. Proposed for permanent retention is the master file of the main personnel system and microfilm copies of employee service record cards from 1940 to 1975.

9. Department of State, Assistant Secretary for Intelligence and Research (N1-59-02-7, 2 items, 1 temporary item). Electronic copies of documents created using electronic mail and word processing that are associated with the office's subject files. Proposed for permanent retention are the recordkeeping copies of these files.

10. Department of State, Office of the Secretary of State (N1-59-02-8, 2 items, 1 temporary item). Electronic copies of documents created using electronic mail and word processing that pertain to memorandums of conversations. Recordkeeping copies of these files are proposed for permanent retention.

11. Department of State, Office of Information Technology Operations and Management for the Bureau of Educational and Cultural Affairs and the Coordinator of International Information Programs (N1-59-02-9, 26 items, 26 temporary items). Records relating to information technology operations and management, including such matters as the management of computer equipment and software, tape libraries, system backups, data security, and user support. Also included are electronic copies of records created using electronic mail and word processing.

12. Department of the Treasury, Financial Management Service (N1-425-02-2, 4 items, 4 temporary items). Electronic copies of documents created using electronic mail and word processing relating to foreign claim files and to closed court cases concerning forgery and alteration of government checks. This schedule also increases retention period for recordkeeping copies of these files, which were previously approved for disposal.

13. Court Service and Offender Supervision Agency, Community Supervision Services Division (N1-562-02-1, 3 items, 3 temporary items). Case files for offenders in the District of Columbia Superior Court system who are under parole, supervised release, and/or probation supervision. Included are electronic copies of documents created using electronic mail and word processing.

14. Peace Corps, Management Division (N1-490-02-1, 1 item, 1 temporary item). Electronic records accumulated by the Office of Information Resources Management that are used for tracking staff access to and use of agency automated systems.

Dated: September 12, 2002.
Michael J. Kurtz,
Assistant Archivist for Record Services, Washington, DC.

[FR Doc. 02-24038 Filed 9-20-02; 8:45 am]

BILLING CODE 7515-01-P